DEPARTMENT OF THE TREASURY

Office of Foreign Assets Control

31 CFR Part 510

Technical Amendments to North Korea Sanctions Regulations

Correction

In rule document 2019-13652, appearing on pages 30868 through 30870, in the issue of Friday, June 28, 2019 make the following correction:

On page 30869, in the first column, in the second paragraph, on the twelfth line, “§§ ” should read “sections”.

[FR Doc. C1-2019-13652 Filed 7-10-19; 8:45 am]

BILLING CODE 1300-00-D